FEDERAL RETIREMENT THRIFT INVESTMENT BOARD

Sunshine Act; Notice of Meeting

TIME AND DATE: 9 a.m. (Eastern Time) October 18, 2010.

PLACE: 4th Floor Conference Room, 1250 H Street, NW., Washington, DC 20005.

STATUS: Parts will be open to the public and parts will be closed to the public.

MATTERS TO BE CONSIDERED:

Parts Open to the Public

1. Approval of the minutes of the September 20, 2010 Board Member Meeting.

2. Thrift Savings Plan Activity Report by the Executive Director.

a. Monthly Participant Activity Report

b. Monthly Investment Performance Review

c. Legislative Report

3. Mid-Year Financial Audit Report.

4. Quarterly Vendor Financial Report.

5. Annual Budget Discussion.

Parts Closed to the Public

6. Confidential Vendor Information.

CONTACT PERSON FOR MORE INFORMATION: Thomas J. Trabucco, Director, Office of External Affairs, (202) 942-1640.

Dated: October 8, 2010.
Thomas K. Emswiler,
Secretary, Federal Retirement Thrift Investment Board.

[FR Doc. 2010-25854 Filed 10-8-10; 11:15 am]

BILLING CODE 6760-01-P